DEPARTMENT OF STATE

22 CFR Parts 96 and 98

[Public Notice: 4537]

RIN 1400-AA-88 (Part 96); 1400-AB-69 (Part 98)

Hague Convention on Intercountry Adoption; Intercountry Adoption Act of 2000; Accreditation of Agencies; Approval of Persons; Preservation of Convention Records; Extension of Comment Period

AGENCY: Department of State.

ACTION: Extension of comment period.

SUMMARY: The Department of State (the Department) is extending by 30 days the public comment period for the proposed rules on the Accreditation of Agencies and Approval of Persons under the Hague Convention on Intercountry Adoption (the Convention) and the Intercountry Adoption Act of 2000 (the IAA) and on the Preservation of Convention Records. The proposed rules were published in part II of the Federal Register on September 15, 2003 (68 FR 54064; 68 FR 54119). In response to public requests for additional time, the Department is extending the public comment period closing date from November 14, 2003, to December 15, 2003, for parts 96 and 98.

DATES: Comments must be received on or before December 15, 2003.

ADDRESSES: Commenters may send hard copy submissions or comments in electronic format. Commenters sending only hard copies must send an original and two copies referencing docket number State/AR-01/96 or State/AR-01/98 to: U.S. Department of State, CA/OCS/PRI, Adoption Regulations Docket Room, SA-29, 2201 C Street, NW., Washington, DC 20520. Hard copy comments may also be sent by overnight courier services to: U.S. Department of State, CA/OCS/PRI, Adoption Regulations Docket Room, 2201 C Street, NW., Washington, DC 20520. Do not personally hand deliver comments to the Department of State.

Comments referencing the docket number State/AR-01/96 or State/AR-01/98 may be submitted electronically to adoptionregs@state.gov. Two hard copies of the comments submitted electronically must be mailed under separate cover as well. Electronic comments must be made in the text of the message or submitted as a Word file avoiding the use of any form of encryption or use of special characters. If you submit comments by hard copy rather than electronically, include a disk with the submission if possible. Hard copy submissions without an accompanying disk file, however, will be accepted.

FOR FURTHER INFORMATION CONTACT: Anna Mary Coburn or Jessica Rosenbaum at 202-647-2826. Hearing-or speech-impaired persons may use the Telecommunications Devices for the Deaf (TDD) by contacting the Federal Information Relay Service at 1-800-877-8339.

SUPPLEMENTARY INFORMATION: On September 15, 2003, the Department published in part II of the Federal Register proposed rules to implement the Hague Convention on Intercountry Adoption and the IAA. The proposed rule for 22 CFR part 96 covered the accreditation and approval of agencies and persons seeking to provide adoption services for intercountry adoptions involving two counties party to the Convention (68 FR 54064). The proposed rule for 22 CFR part 98 covered the preservation of Convention records held by the Department and the Department of Homeland Security (68 FR 54119).

You can view electronic versions of the proposed rules on http://www.regulations.gov. Comments on the proposed rules were required to be received on or before November 14, 2003. The Department is extending the comment period for an additional 30 days. Comments must be received on or before December 15, 2003. Anyone seeking to submit comments must follow the procedures specified in the ADDRESSES section of the proposed rules as published in the Federal Register (68 FR 54064, September 15, 2003).

Dated: November 7, 2003.
Maura Harty,
Assistant Secretary for Consular Affairs, Department of State.

[FR Doc. 03-28544 Filed 11-12-03; 8:45 am]

BILLING CODE 4710-06-P